DEPARTMENT OF ENERGY

Federal Energy Regulatory Commission

Notice of Effectiveness of Exempt Wholesale Generator Status

| Docket No.
El Sauz Ranch Wind, LLC | EG22-27-000
Northern Wind Energy Redevelopment, LLC | EG22-28-000
Red Barn Energy, LLC | EG22-29-000
Rock Aetna Power Partners, LLC | EG22-30-000
Arrow Canyon Solar, LLC | EG22-31-000
Flower Valley II LLC | EG22-32-000
Mesa Wind Power LLC | EG22-33-000
AM Wind Repower LLC | EG22-34-000
Mulligan Solar, LLC | EG22-35-000
Lancaster Area Battery Storage, LLC | EG22-36-000

Take notice that during the month of February 2022, the status of the above-captioned entities as Exempt Wholesale Generators became effective by operation of the Commission's regulations. 18 CFR 366.7(a) (2021).

Dated: March 18, 2022.
Debbie-Anne A. Reese,
Deputy Secretary.

[FR Doc. 2022-06240 Filed 3-23-22; 8:45 am]

BILLING CODE 6717-01-P